DEPARTMENT OF TRANSPORTATION

Federal Aviation Administration

Advisory Circular 23.143-1, Ice Contaminated Tailplane Stall (ICTS)

AGENCY: Federal Aviation Administration (FAA), DOT.

ACTION: Notice of availability of Advisory Circular 23.143-1, Ice Contaminated Tailplane Stall (ICTS).

SUMMARY: This notice announces the availability of Advisory Circular 23.143-1, Ice Contaminated Tailplane Stall (ICTS), which provides information and guidance concerning ice contaminated tailplane stall.

FOR FURTHER INFORMATION CONTACT: Paul Pellicano, Aerospace Engineer, FAA, Atlanta Aircraft Certification Office, One Crown Center, 1895 Phoenix Boulevard, suite 450, Atlanta, Georgia 30349; telephone: (770) 703-6064; facsimile: (770) 703-6097.

SUPPLEMENTARY INFORMATION:

Discussion

You may download a copy from the FAA Web site at http://www.faa.gov/certification/ aircraft/small_airplane_ directorate_news_latest.html, or request a copy by contacting the person named above under FOR FURTHER INFORMATION CONTACT.

This advisory circular (AC) sets forth an acceptable means, but not the only means, of demonstrating compliance with the longitudinal (pitch) axis flight characteristics requirements of Title 14 of the Code of Federal Regulations (14 CFR) part 23 when ice has accreted on the airframe. The FAA developed this AC to give more detailed and uniform guidance in showing compliance with the control and maneuver requirements of section 23.143.

Issued in Kansas City, Missouri on January 23, 2002.
Michael K. Dahl,
Acting Manager, Small Airplane Directorate, Aircraft Certification Service.

[FR Doc. 02-2537 Filed 1-31-02; 8:45 am]

BILLING CODE 4910-13-P